DEPARTMENT OF ENERGY

Federal Energy Regulatory Commission

Combined Notice of Filings #1

Take notice that the Commission received the following electric corporate filings:

Docket Numbers: EC25-151-000.

Applicants: Carroll County Energy LLC, AL Carroll County Holdings, LLC.

Description: Joint Application for Authorization Under Section 203 of the Federal Power Act of Carroll County Energy LLC, et al.

Filed Date: 9/30/25.

Accession Number: 20250930-5326.

Comment Date: 5 p.m. ET 12/1/25.

Docket Numbers: EC26-7-000.

Applicants: Leaning Juniper Wind Power II, LLC, Leaning Juniper 2B, LLC.

Description: Joint Application for Authorization Under Section 203 of the Federal Power Act of Leaning Juniper Wind Power II, LLC, et al.

Filed Date: 10/14/25.

Accession Number: 20251014-5420.

Comment Date: 5 p.m. ET 11/4/25.

Take notice that the Commission received the following exempt wholesale generator filings:

Docket Numbers: EG26-18-000.

Applicants: Medway Grid, LLC.

Description: Medway Grid, LLC submits Notice of Self-Certification of Exempt Wholesale Generator Status.

Filed Date: 10/14/25.

Accession Number: 20251014-5341.

Comment Date: 5 p.m. ET 11/4/25.

Take notice that the Commission received the following Complaints and Compliance filings in EL Dockets:

Docket Numbers: EL26-5-000.

Applicants: BP Energy Retail Company LLC v. ISO New England Inc., et al.

Description: Complaint of BP Energy Retail Company LLC v. ISO New England Inc., et al.

Filed Date: 10/14/25.

Accession Number: 20251014-5331.

Comment Date: 5 p.m. ET 11/13/25.

Take notice that the Commission received the following electric rate filings:

Docket Numbers: ER10-2757-011; ER10-1342-009; ER18-53-005; ER11-3051-007; ER10-3310-018.

Applicants: New Harquahala Generating Company, LLC, Macho Springs Power I, LLC, CXA La Paloma, LLC, CP Energy Marketing (US) Inc., Arlington Valley, LLC.

Description: Supplement to 06/30/2025, Triennial Market Power Analysis for Southwest Region of Arlington Valley, LLC, et al.

Filed Date: 10/14/25.

Accession Number: 20251014-5372.

Comment Date: 5 p.m. ET 11/4/25.

Docket Numbers: ER12-1725-008; ER19-106-008.

Applicants: Birdsboro Power LLC, Red Oak Power, LLC.

Description: Notice of Change in Status of Red Oak Power, LLC, et al.

Filed Date: 10/14/25.

Accession Number: 20251014-5369.

Comment Date: 5 p.m. ET 11/4/25.

Docket Numbers: ER13-1562-013.

Applicants: Catalina Solar Lessee, LLC.

Description: Notice of Change in Status of Catalina Solar Lessee, LLC.

Filed Date: 10/14/25.

Accession Number: 20251014-5368.

Comment Date: 5 p.m. ET 11/4/25.

Docket Numbers: ER19-2276-007.

Applicants: New York Independent System Operator, Inc.

Description: Compliance filing: NYISO Effective Date Notice: DADRP/DSASP Sunset—2019 DER Proposal to be effective 10/31/2025.

Filed Date: 10/15/25.

Accession Number: 20251015-5079.

Comment Date: 5 p.m. ET 11/5/25.

Docket Numbers: ER23-2040-004.

Applicants: New York Independent System Operator, Inc.

Description: Compliance filing: NYISO Effective Date Notice: DADRP/DSASP Sunset—2023 DER Proposal to be effective 10/31/2025.

Filed Date: 10/15/25.

Accession Number: 20251015-5130.

Comment Date: 5 p.m. ET 11/5/25.

Docket Numbers: ER24-2042-001.

Applicants: California Independent System Operator Corporation.

Description: Report Filing: 2025-10-03 Supplemental Compliance Filing—Order No. 2023 to be effective N/A.

Filed Date: 10/3/25.

Accession Number: 20251003-5061.

Comment Date: 5 p.m. ET 10/24/25.

Docket Numbers: ER24-3127-002.

Applicants: Sun Pond, LLC.

Description: Notice of Non-Material Change in Status of Sun Pond, LLC.

Filed Date: 10/14/25.

Accession Number: 20251014-5373.

Comment Date: 5 p.m. ET 11/4/25.

Docket Numbers: ER25-2833-002.

Applicants: PacifiCorp.

Description: Compliance filing: Compliance Filing to Sept. 29 Order to be effective 9/9/2025.

Filed Date: 10/15/25.

Accession Number: 20251015-5109.

Comment Date: 5 p.m. ET 11/5/25.

Docket Numbers: ER25-3213-000.

Applicants: Olympus Phase 3, LLC.

Description: Supplement to 08/18/2025 Olympus Phase 3, LLC tariff filing.

Filed Date: 10/2/25.

Accession Number: 20251002-5166.

Comment Date: 5 p.m. ET 10/27/25.

Docket Numbers: ER26-135-000.

Applicants: PJM Interconnection, L.L.C.

Description: § 205(d) Rate Filing: Amendment to GIA, Service Agreement No. 7551; AG1-365 to be effective 12/14/2025.

Filed Date: 10/14/25.

Accession Number: 20251014-5315.

Comment Date: 5 p.m. ET 11/4/25.

Docket Numbers: ER26-136-000.

Applicants: PJM Interconnection, L.L.C.

Description: § 205(d) Rate Filing: Amendment to GIA, Service Agreement No. 7357; AG1-366 to be effective 12/14/2025.

Filed Date: 10/14/25.

Accession Number: 20251014-5322.

Comment Date: 5 p.m. ET 11/4/25.

Docket Numbers: ER26-137-000.

Applicants: Gonzaga Ridge Battery Facility, LLC.

Description: Initial Rate Filing: Certificate of Concurrence to Shared Facilities Agreement to be effective 12/14/2025.

Filed Date: 10/14/25.

Accession Number: 20251014-5334.

Comment Date: 5 p.m. ET 11/4/25.

Docket Numbers: ER26-138-000.

Applicants: Leaning Juniper 2B, LLC.

Description: Initial Rate Filing: Application for Market-Based Rate Authorization, Request for Related Waivers to be effective 4/1/2026.

Filed Date: 10/14/25.

Accession Number: 20251014-5346.

Comment Date: 5 p.m. ET 11/4/25.

Docket Numbers: ER26-139-000.

Applicants: Midcontinent Independent System Operator, Inc.

Description: Compliance filing: 2025-10-15_Annual Cost of New Entry and Net CONE Filing to be effective N/A.

Filed Date: 10/15/25.

Accession Number: 20251015-5003.

Comment Date: 5 p.m. ET 11/5/25.

Docket Numbers: ER26-140-000.

Applicants: LS Power Grid California, LLC.

Description: § 205(d) Rate Filing: LS Power Grid CA TRBAA Filing to be effective 1/1/2026.

Filed Date: 10/15/25.

Accession Number: 20251015-5021.

Comment Date: 5 p.m. ET 11/5/25.

Docket Numbers: ER26-141-000.

Applicants: Tri-State Generation and Transmission Association, Inc.

Description: § 205(d) Rate Filing: Amendment to Rate Schedule Nos. 412 and 413 to be effective 12/15/2025.

Filed Date: 10/15/25.

Accession Number: 20251015-5025.

Comment Date: 5 p.m. ET 11/5/25.

Docket Numbers: ER26-142-000.

Applicants: Tri-State Generation and Transmission Association, Inc.

Description: § 205(d) Rate Filing: Amendment to Rate Schedule Nos. 414, 415, 416, 417, and 418 to be effective 12/15/2025.

Filed Date: 10/15/25.

Accession Number: 20251015-5029.

Comment Date: 5 p.m. ET 11/5/25.

Docket Numbers: ER26-143-000.

Applicants: Brookfield Renewable Trading and Marketing LP.

Description: Petition for Limited Waiver of Brookfield Renewable Trading and Marketing LP.

Filed Date: 10/15/25.

Accession Number: 20251015-5046.

Comment Date: 5 p.m. ET 11/5/25.

Docket Numbers: ER26-144-000.

Applicants: ISO New England Inc.

Description: § 205(d) Rate Filing: ISO-NE; Capital Budget & Revised Tariff Sheets for Recovery of 2026 Admin. Cost to be effective 1/1/2026.

Filed Date: 10/15/25.

Accession Number: 20251015-5050.

Comment Date: 5 p.m. ET 11/5/25.

Docket Numbers: ER26-145-000.

Applicants: ISO New England Inc.

Description: § 205(d) Rate Filing: ISO/NESCOE Budget; Rev. for Recovery of Costs for the 2026 Operation of NESCOE to be effective 1/1/2026.

Filed Date: 10/15/25.

Accession Number: 20251015-5059.

Comment Date: 5 p.m. ET 11/5/25.

Docket Numbers: ER26-146-000.

Applicants: Golden Spread Electric Cooperative, Inc.

Description: § 205(d) Rate Filing: WPC Amendments Ex A AND C to be effective 12/15/2025.

Filed Date: 10/15/25.

Accession Number: 20251015-5062.

Comment Date: 5 p.m. ET 11/5/25.

Docket Numbers: ER26-147-000.

Applicants: Hardin Solar Energy II LLC.

Description: § 205(d) Rate Filing: Certificate of Concurrence to be effective 12/15/2025.

Filed Date: 10/15/25.

Accession Number: 20251015-5081.

Comment Date: 5 p.m. ET 11/5/25.

Docket Numbers: ER26-148-000.

Applicants: Midcontinent Independent System Operator, Inc.

Description: § 205(d) Rate Filing: 2025-10-15_Filing to Remove Energy Efficiency Resources to be effective 12/15/2025.

Filed Date: 10/15/25.

Accession Number: 20251015-5102.

Comment Date: 5 p.m. ET 11/5/25.

Docket Numbers: ER26-149-000.

Applicants: Medway Grid, LLC.

Description: Initial Rate Filing: Baseline new to be effective 10/16/2025.

Filed Date: 10/15/25.

Accession Number: 20251015-5113.

Comment Date: 5 p.m. ET 11/5/25.

Docket Numbers: ER26-150-000.

Applicants: Citizens Sunrise Transmission LLC.

Description: § 205(d) Rate Filing: Annual TRBAA Filing 2025 to be effective 1/1/2026.

Filed Date: 10/15/25.

Accession Number: 20251015-5116.

Comment Date: 5 p.m. ET 11/5/25.

Docket Numbers: ER26-151-000.

Applicants: Citizens Sycamore-Penasquitos Transmission LLC.

Description: § 205(d) Rate Filing: Annual TRBAA Filing 2025 to be effective 1/1/2026.

Filed Date: 10/15/25.

Accession Number: 20251015-5117.

Comment Date: 5 p.m. ET 11/5/25.

Docket Numbers: ER26-152-000.

Applicants: ISO New England Inc.

Description: ISO New England Inc. Capital Budget Quarterly Filing for Third Quarter of 2025.

Filed Date: 10/15/25.

Accession Number: 20251015-5126.

Comment Date: 5 p.m. ET 11/5/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: October 15, 2025.
Carlos D. Clay,
Deputy Secretary.

[FR Doc. 2025-20857 Filed 11-24-25; 8:45 am]

BILLING CODE 6717-01-P